DEPARTMENT OF ENERGY

Federal Energy Regulatory Commission

[Docket No. ER03-1335-002, et al.]

Commonwealth Edison Company, et al.; Electric Rate and Corporate Filings

April 19, 2004.

The following filings have been made with the Commission. The filings are listed in ascending order within each docket classification.

1. Commonwealth Edison Company

[Docket No. ER03-1335-002]

On April 14, 2004, the Commission issued a Notice of Filing in the above-referenced proceeding. By this Errata Notice the comment date is corrected to read: April 26, 2004.

2. PJM Interconnection, L.L.C.

[Docket Nos. ER04-368-002 and ER04-368-003]

Take notice that on April 13, 2004, as supplemented on April 14, 2004, PJM Interconnection, L.L.C. (PJM) submitted a compliance filing pursuant to the Commission's Letter Order issued March 15, 2004 in Docket No. ER04-368-002.

PJM states that copies of this filing were served upon persons designated on the official service list compiled by the Secretary in this proceeding and the parties to the agreements.

Comment Date: May 4, 2004.

3. Idaho Power Company

[Docket No. ER04-512-001]

Take notice that on April 14, 2004 Idaho Power Company (Idaho Power) submitted a compliance filing pursuant to the Commission's order issued March 30, 2004 in Docket No. ER04-512-001, 106 FERC ¶ 61,329.

Comment Date: May 5, 2004.

4. Southern California Edison Company

[Docket No. ER04-533-001]

Take notice that on April 14, 2004, Southern California Edison Company (SCE) submitted a compliance filing pursuant to the letter order issued April 1, 2004 in Docket No. ER04-533-000.

SCE states that copies of this filing were served upon the Public Utilities Commission of the State of California and Industry.

Comment Date: May 5, 2004.

5. Allegheny Energy Supply Company, LLC

[Docket No. ER04-730-000]

Take notice that on April 13, 2004, Allegheny Energy Supply Company, LLC (AE Supply) tendered for filing an executed Master Full Requirements Service Agreement along with three transaction confirmations entered into with The Potomac Edison Company pursuant to a competitive solicitation for standard offer service that was supervised by the Maryland Public Service Commission, all as more fully described in the application. AE Supply has requested waiver of the prior notice filing requirements to permit an effective date of January 1, 2005.

Comment Date: May 4, 2004.

6. San Diego Gas & Electric Company

[Docket No. ER04-731-000]

Take notice that on April 13, 2004, San Diego Gas & Electric Company (SDG&E) tendered for filing of an amendment to its the transmission rate formula that was accepted by the Commission in its Order Approving Uncontested Settlement, dated December 18, 2003, in San Diego Gas & Electric Company, 105 FERC ¶ 61,301 (2003).

SDG&E states that copies of the filing were served on the California Public Utilities Commission, the California Independent System Operator, and all other parties in Docket No. ER03-610-000.

Comment Date: May 4, 2004.

7. FPL Energy Mason, LLC

[ Docket No. ER04-732-000]

Take notice that on April 13, 2004, FPL Energy Mason, LLC, (FPLE Mason) tendered for filing a Notice of Cancellation of its market-based rate tariff, designated as FERC Electric Tariff, Original Volume No. 1, originally accepted for filing in Docket No. ER98-3562-000.

Comment Date: May 4, 2004.

8. Utility Contract Funding II, LLC

[Docket No. ER04-733-000]

Take notice that on April 13, 2004, Utility Contract Funding II, LLC, (UCF II) pursuant to section 205 of the Federal Power Act and sections 35.16 and 131.51 of the Commission regulations, filed a Notice of Succession to adopt CES Marketing II, LLC's market-based rate authorization. UCF II requests waiver of section 35.16 of the regulations to the extent necessary to permit the Notice of Succession to become effective April 14, 2004.

Comment Date: May 4, 2004.

9. Barclays Bank PLC

[Docket No. ER04-734-000]

Take notice that on April 13, 2004, Barclays Bank PLC (Barclays) petitioned the Commission for acceptance of Barclays' Rate Schedule FERC No. 1; the granting of certain blanket approvals, including the authority to sell electricity at market-based rates; and the waiver of certain Commission regulations.

Comment Date: May 4, 2004.

10. Midwest Independent Transmission System Operator, Inc.

[Docket No. ER04-735-000]

Take notice that on April 14, 2004, pursuant to section 205 of the Federal Power Act and section 35.13 of the Commission's regulations, 18 CFR 35.13 (2003), the Midwest Independent Transmission System Operator, Inc. (Midwest ISO) submitted for filing a fully executed revised Interconnection and Operating Agreement among FPL Energy North Dakota Wind II, LLC, the Midwest ISO and Otter Tail Power Company, Inc., a division of Otter Tail Corporation.

Midwest ISO states that a copy of this filing was served on all parties.

Comment Date: May 5, 2004.

11. Commonwealth Edison Company

[Docket No. ER04-736-000]

Take notice that on April 14, 2004, Commonwealth Edison Company (ComEd) submitted for filing twenty-four (24) unexecuted Service Agreements entered into between ComEd and Edison Mission Marketing & Trading Inc. under ComEd's Open Access Transmission Tariff. ComEd requests an effective date of April 1, 2005 for all of the Service Agreements.

ComEd states that copies of the filing were served upon Edison Mission Marketing & Trading Inc. and the Illinois Commerce Commission.

Comment Date: May 5, 2004.

12. Commonwealth Edison Company

[Docket No. ER04-737-000]

Take notice that on April 14, 2004, Commonwealth Edison Company (ComEd) submitted for filing an unexecuted Service Agreement entered into between ComEd and Exelon Generation Company LLC under ComEd's Open Access Transmission Tariff. ComEd requests an effective date of June 1, 2004 for the Service Agreement.

ComEd states that copies of the filing were served upon Exelon Generation Company LLC and the Illinois Commerce Commission.

Comment Date: May 5, 2004.

13. Midwest Independent Transmission System Operator, Inc.

[Docket No. ER04-738-000]

Take notice that on April 15, 2004, the Midwest Independent Transmission System Operator, Inc. (Midwest ISO)submitted for filing a Notice of Succession of certain Transmission Service Agreements and Network Integration Transmission Service and Operating Agreements entered into by and between Ameren Services Company, as agent for its electric utility affiliates, Union Electric Company d/b/a Ameren UE and Central Illinois Public Service Company d/b/a AmerenCIPS (Ameren) and various transmission customers. Midwest ISO has requested an effective date of May 1, 2004.

Midwest ISO states that it has served a copy of this filing upon the affected customers and has electronically served a copy of this filing, with attachments, upon all Midwest ISO Members, Member representatives of Transmission Owners and Non-Transmission Owners, the Midwest ISO Advisory Committee participants, as well as all state commissions within the region. In addition, Midwest ISO states that the filing has been electronically posted on the Midwest ISO's Web site at http://www.midwestiso.org under the heading “Filings to FERC” for other interested parties in this matter and Midwest ISO will provide hard copies to any interested parties upon request.

Comment Date: May 6, 2004.

14. Idaho Power Company

[Docket No. ER04-739-000]

Take notice that on April 14, 2004 Idaho Power Company (Idaho Power) submitted for filing: First Revised Service Agreement No. 141 Superseding Original Service Agreements Nos. 141 and 142 Under FERC Electric Tariff First Revised Volume No. 5 for Network Integration Transmission Service (NITSA) between Idaho Power and PacifiCorp; Second Revised Service Agreement No. 154 Superseding First Revised Service Agreement No. 154 Under FERC Electric Tariff First Revised Volume No. 5 for NITSA Service between Idaho Power and Bonneville Power Administration (BPA) pursuant to which BPA serves its customer Raft River Electric Cooperative; Third Revised Service Agreement No. 155 Superseding Second Revised Service Agreement No. 155 Under FERC Electric Tariff First Revised Volume No. 5 for NITSA Service between Idaho Power and BPA, pursuant to which BPA serves its customer Oregon Trail Electric Cooperative; and Second Revised Service Agreement No. 159 Under FERC Electric Tariff First Revised Volume No. 5 for NITSA service between Idaho Power and Idaho Power-Power Supply pursuant to which Idaho Power-Power Supply serves Raft River Loads.

Comment Date: May 5, 2004.

Standard Paragraph

Any person desiring to intervene or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Magalie R. Salas,
Secretary.

[FR Doc. E4-921 Filed 4-26-04; 8:45 am]

BILLING CODE 6717-01-P